DEPARTMENT OF ENERGY

Federal Energy Regulatory Commission

Combined Notice of Filings #2

Take notice that the Commission received the following electric corporate filings:

Docket Numbers: EC18-13-000.

Applicants: Plum Point Energy Associates, LLC, Plum Point Services Company, LLC, Excalibur Power, L.L.C.

Description: Application Under FPA Section 203 of Plum Point Energy Associates, LLC, et. al.

Filed Date: 11/3/17.

Accession Number: 20171103-5182.

Comments Due: 5 p.m. ET 11/24/17.

Take notice that the Commission received the following electric rate filings:

Docket Numbers: ER18-245-000.

Applicants: Georgia Power Company.

Description: § 205(d) Rate Filing: GPCo 2017 PBOP Filing to be effective 1/1/2017.

Filed Date: 11/3/17.

Accession Number: 20171103-5116.

Comments Due: 5 p.m. ET 11/24/17.

Docket Numbers: ER18-246-000.

Applicants: Arizona Public Service Company.

Description: Compliance filing: Rate Schedule No. 289—SCE Expiration Agreement to be effective 12/22/2015.

Filed Date: 11/3/17.

Accession Number: 20171103-5118.

Comments Due: 5 p.m. ET 11/24/17.

Docket Numbers: ER18-247-000.

Applicants: Mississippi Power Company.

Description: § 205(d) Rate Filing: PBOP 2017 Filing to be effective 1/1/2017.

Filed Date: 11/3/17.

Accession Number: 20171103-5119.

Comments Due: 5 p.m. ET 11/24/17.

Docket Numbers: ER18-248-000.

Applicants: Southern Electric Generating Company.

Description: § 205(d) Rate Filing: SEGCo 2017 PBOP Filing to be effective 1/1/2017.

Filed Date: 11/3/17.

Accession Number: 20171103-5120.

Comments Due: 5 p.m. ET 11/24/17.

Docket Numbers: ER18-249-000.

Applicants: Public Service Company of New Mexico.

Description: Initial rate filing: Executed TCIA with Western Spirit Clean Line LLC to be effective 11/1/2017.

Filed Date: 11/3/17.

Accession Number: 20171103-5166.

Comments Due: 5 p.m. ET 11/24/17.

Docket Numbers: ER18-250-000.

Applicants: Duke Energy Carolinas, LLC.

Description: § 205(d) Rate Filing: DEC-Brookfield-TVA Pseudo-Tie Agrmnts to be effective 11/14/2017.

Filed Date: 11/3/17.

Accession Number: 20171103-5173.

Comments Due: 5 p.m. ET 11/24/17.

Docket Numbers: ER18-251-000.

Applicants: California Independent System Operator Corporation.

Description: § 205(d) Rate Filing: 2017-11-03 Powerex Canadian EIM Entity Agreement to be effective 2/15/2018.

Filed Date: 11/3/17.

Accession Number: 20171103-5180.

Comments Due: 5 p.m. ET 11/24/17.

Docket Numbers: ER18-251-001.

Applicants: California Independent System Operator Corporation.

Description: Tariff Amendment: 2017-11-03 Powerex Canadian EIM Entity Scheduling Coordinator Agreement to be effective 2/15/2018.

Filed Date: 11/3/17.

Accession Number: 20171103-5185.

Comments Due: 5 p.m. ET 11/24/17.

Docket Numbers: ER18-251-002.

Applicants: California Independent System Operator Corporation.

Description: Tariff Amendment: 2017-11-03 Powerex EIM Participating Resource Agreement to be effective 2/15/2018.

Filed Date: 11/3/17.

Accession Number: 20171103-5196.

Comments Due: 5 p.m. ET 11/24/17.

Docket Numbers: ER18-251-003.

Applicants: California Independent System Operator Corporation.

Description: Tariff Amendment: 2017-11-03 Powerex EIM Participating Resource Scheduling Coordinator Agreement to be effective 2/15/2018.

Filed Date: 11/3/17.

Accession Number: 20171103-5203.

Comments Due: 5 p.m. ET 11/24/17.

Docket Numbers: ER18-251-004.

Applicants: California Independent System Operator Corporation.

Description: Tariff Amendment: 2017-11-03 CAISO and BC Hydro Data Sharing Agreement to be effective 2/15/2018.

Filed Date: 11/3/17.

Accession Number: 20171103-5206.

Comments Due: 5 p.m. ET 11/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2017.
Kimberly D. Bose,
Secretary.

[FR Doc. 2017-24454 Filed 11-9-17; 8:45 am]

BILLING CODE 6717-01-P